DEPARTMENT OF HOMELAND SECURITY

Coast Guard

33 CFR Part 117

[CGD01-07-129]

Drawbridge Operation Regulations; Jamaica Bay, New York, NY

AGENCY: Coast Guard, DHS.

ACTION: Notice of temporary deviation from regulations.

SUMMARY: The Commander, First Coast Guard District, has issued a temporary deviation from the regulation governing the operation of the Beach Channel Railroad Bridge across Jamaica Bay, mile 6.7, at New York, New York. Under this temporary deviation, in effect for four weekends in September, the Beach Channel Railroad Bridge may remain in the closed position on Saturdays and Sundays from 6 a.m. to 9 p.m. This deviation is necessary to facilitate bridge track repairs.

DATES: This deviation is effective from September 8, 2007 through September 30, 2007.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The Beach Channel Railroad Bridge, across Jamaica Bay, mile 6.7, at New York, New York, has a vertical clearance in the closed position of 26 feet at mean high water and 31 feet at mean low water. The existing drawbridge operation regulations are listed at 33 CFR 117.5.

The owner of the bridge, New York City Transit Authority, requested a temporary deviation to facilitate repairs to the bridge rails.

Under this temporary deviation, in effect for four successive weekends, the Beach Channel Railroad Bridge need not open for the passage of vessel traffic on Saturday and Sunday between 6 a.m. and 9 p.m. on September 8, 9, 15, 16, 22, 23, 29, and 30, 2007.

In accordance with 33 CFR 117.35(e), the bridge must return to its regular operating schedule immediately at the end of the designated time period. This deviation from the operating regulations is authorized under 33 CFR 117.35.

Dated: September 4, 2007.
Gary Kassof,
Bridge Program Manager, First Coast Guard District.

[FR Doc. E7-17994 Filed 9-11-07; 8:45 am]

BILLING CODE 4910-15-P